DEPARTMENT OF TRANSPORTATION

Office of the Secretary of Transportation

[DOT Docket No. DOT-OST-2010-0074]

The Future of Aviation Advisory Committee (FAAC) Aviation Safety Subcommittee; Notice of Meeting

AGENCY: U.S. Department of Transportation, Office of the Secretary of Transportation.

ACTION: The Future of Aviation Advisory Committee (FAAC): Aviation Safety Subcommittee; Notice of Meeting.

SUMMARY: The Department of Transportation (DOT), Office of the Secretary of Transportation, announces a meeting of the FAAC Aviation Safety Subcommittee, which will be held September 28, 2010, via teleconference. This notice announces the date, time, and location of the meeting, which will be open to the public. The purpose of the FAAC is to provide advice and recommendations to the Secretary of Transportation to ensure the competitiveness of the U.S. aviation industry and its capability to manage effectively the evolving transportation needs, challenges, and opportunities of the global economy. The subcommittee will discuss issue areas identified for potential recommendations, the process of drafting recommendations, and develop a work plan for future meetings.

DATES: The meeting will be held on September 28, 2010, from 2 to 4 p.m. Eastern Daylight Time.

ADDRESSES: The meeting will be held via teleconference. Call-in information will be provided to registered participants. (See below for registration instructions.)

Public Access: The meeting is open to the public. (See below for registration instructions.)

Public Comments: Persons wishing to offer written comments and suggestions concerning the activities of the advisory committee or subcommittee should file comments in the Public Docket (Docket Number DOT-OST-2010-0074 at www.regulations.gov) or alternatively through the FAAC@dot.gov e-mail. If comments and suggestions are intended specifically for the Aviation Safety Subcommittee, the term “Aviation Safety” should be listed in the subject line of the message. To ensure such comments can be considered by the subcommittee before its September 28, 2010, meeting, public comments must be filed by close of business on Friday, September 24, 2010.

SUPPLEMENTARY INFORMATION:

Background

Under section 10(a)(2) of the Federal Advisory Committee Act (5 U.S.C. App. 2), we are giving notice of an FAAC Aviation Safety Subcommittee meeting taking place on September 28, 2010, from 2 to 4 p.m. Eastern Daylight Time, via teleconference. The subcommittee will—

1. Review the status of issue items.

2. Discuss the drafting of recommendations and report.

3. Develop a work plan for future meetings.

Registration

The telephone conference can accommodate up to 100 members of the public. Persons desiring to listen to the discussion must pre-register through e-mail to FAAC@dot.gov. The term “Registration: Safety Subcommittee” must be listed in the subject line of the message, and admission will be limited to the first 100 persons to pre-register and receive a confirmation of their pre-registration. No arrangements are being made for video transmission, or for oral statements or questions from the public at the meeting. Minutes of the meeting will be posted on the FAAC Web site at http://www.dot.gov/FAAC.

Request for Special Accommodation

The DOT is committed to providing equal access to this meeting for all participants. If you need alternative formats or services because of a disability, please send a request to FAAC@dot.gov with the term “Special Accommodations” listed in the subject line of the message by close of business on September 24, 2010.

FOR FURTHER INFORMATION CONTACT: Tony Fazio, Deputy Director, Office of Accident Investigation and Prevention, Federal Aviation Administration, 800 Independence Avenue, SW., Washington, DC; telephone (202) 267-9612; Tony.Fazio@FAA.gov.

Issued in Washington, DC, on September 13, 2010.
Pamela Hamilton-Powell,
Designated Federal Official, Future of Aviation Advisory Committee.

[FR Doc. 2010-23205 Filed 9-16-10; 8:45 am]

BILLING CODE 4910-P